GENERAL SERVICES ADMINISTRATION

Office of Governmentwide Policy; Revision of a Standard Form by the Department of the Treasury

AGENCY: Office of Governmentwide Policy, GSA.

ACTION: Notice.

SUMMARY: The Department of the Treasury revised SF 3881, ACH Vendor/Miscellaneous Payment Enrollment to:

Remove the CTP checkbox and the OMB expiration; and

Authorize form for local reproduction. This was due to low demand in the Federal Supply Service.

You can obtain the updated form in two ways:

On the internet. Address: http://w3.gsa.gov/web/c/newform.nsf/MainMenu?OpenForm or;

From GSA, Forms-MCF, Attn.: Barbara Williams, (202) 501-0581.

FOR FURTHER INFORMATION CONTACT: Ms. Lois Holland (202) 622-1563. This contact is for information about completing the form only.

DATES: Effective November 25, 2003.

Dated: November 18, 2003.
Barbara M. Williams,
Deputy Standard and Optional Forms Management Officer, General Services Administration.

[FR Doc. 03-29362 Filed 11-24-03; 8:45 am]

BILLING CODE 6820-34-M